DEPARTMENT OF STATE

[Public Notice: 11188]

Determination Pursuant to the Foreign Missions Act

Pursuant to the authority vested in the Secretary of State by the laws of the United States including the Foreign Missions Act (22 U.S.C. 4301 et seq.) and delegated pursuant to Department of State Delegation of Authority No. 214 of September 20, 1994, I hereby determine that the Confucius Institute United States Center, and any successor entity, including their real property and personnel, is a foreign mission within the meaning of 22 U.S.C. 4302(a)(3).

Furthermore, I hereby determine it to be reasonably necessary to protect the interests of the United States to require the representative offices and operations in the United States of the above noted entities, and their agents or employees acting on their behalf, to comply with the terms and conditions specified by the Department of State's Office of Foreign Missions relating to the above noted entities' activities in the United States.

At a minimum such terms and conditions shall include a requirement for the Confucius Institute United States Center, and its successor entity, to:

1. By October 31, 2020, prepare a report detailing all financial and other support that CIUS has provided or will provide to Confucius Institutes, Confucius Classrooms, or other educational institutions in the United States in calendar years 2018, 2019, and 2020. This report must be updated and submitted bi-annually every April 30 and October 31.

2. By October 31, 2020, provide a list of all PRC citizens referred or assigned by CIUS to a Confucius Institute or Confucius Classroom in the United States since 2016, their current citizenship or visa status, and whether and where they are currently assigned in the United States. This report must be updated and submitted bi-annually every April 30 and October 31.

3. Provide OFM with 60 days notice prior to dispersing funds, personnel, or other resources in support of new Confucius Institutes or other educational organizations in the United States.

4. By October 31, 2020, provide OFM with courtesy copies of curriculum materials that CIUS has provided to individual Confucius Institutes and other U.S.-based educational institutions for use in calendar years 2016-2020. Courtesy copies of future curricular materials must be submitted to OFM as they are distributed.

Finally, I determine that the requirements established by Designation 2020-2, dated June 5, 2020, will not be applied to the above-referenced entities unless and until further notice.

Clifton C. Seagroves,
Acting Director, Office of Foreign Missions, Department of State.

[FR Doc. 2020-18525 Filed 8-21-20; 8:45 am]

BILLING CODE 4710-43-P